DEPARTMENT OF THE INTERIOR

Fish and Wildlife Service

[Docket No. FWS-HQ-MB-2023-0003; FXMB123109WEBB0-234-FF09M26000; OMB Control Number 1018-0019]

Agency Information Collection Activities; North American Woodcock Singing Ground Survey

AGENCY: Fish and Wildlife Service, Interior.

ACTION: Notice of information collection; comment period reopening.

SUMMARY: In accordance with the Paperwork Reduction Act, on February 28, 2023, we, the U.S. Fish and Wildlife Service, published a notice announcing that we are proposing to renew an existing information collection (IC) without change. The notice opened a public comment period, which closed on May 1, 2023. We subsequently identified proposed changes to the IC that were not included in the original notice; therefore, we are now republishing the notice in full, including the proposed changes, and reopening the comment period.

DATES: Interested persons are invited to submit comments on or before October 10, 2023.

ADDRESSES: Send your comments on the information collection request (ICR) by one of the following methods (reference Office of Management and Budget (OMB) Control Number 1018-0019 in the subject line of your comment):

• Internet (preferred): https://www.regulations.gov. Follow the instructions for submitting comments on Docket No. FWS-HQ-MB-2023-0003.

• U.S. mail: Service Information Collection Clearance Officer, U.S. Fish and Wildlife Service, 5275 Leesburg Pike, MS: PRB (JAO/3W), Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On February 28, 2023, we published a notice announcing that we are proposing to renew an existing information collection (88 FR 12695). The notice opened a public comment period, which closed on May 1, 2023. We subsequently identified proposed changes which were not included in the original notice; therefore, we are now republishing the notice in full, including the proposed changes, and reopening the comment period. Our final determination will take into consideration all written comments and information we receive during both comment periods.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Migratory Bird Treaty Act (16 U.S.C. 703-712) designates the Department of the Interior as the primary agency responsible for managing migratory bird populations frequenting the United States and setting hunting regulations that allow for the well-being of migratory bird populations. These responsibilities dictate that we gather accurate data on various characteristics of migratory bird populations.

The North American Woodcock Singing Ground Survey is an essential part of the migratory bird management program. Federal, State, Provincial, Tribal, and local conservation agencies conduct the survey annually to provide the data necessary to determine the population status of the American woodcock. In addition, the information is vital in assessing the relative changes in the geographic distribution of the species. We use the information primarily to develop recommendations for hunting regulations. Without information on the population's status, we might promulgate hunting regulations that:

• Are not sufficiently restrictive, which could cause harm to the woodcock population, or

• Are too restrictive, which would unduly restrict recreational opportunities afforded by woodcock hunting.

State, local, Tribal, Provincial, and Federal conservation agencies, as well as other participants, use Form 3-156 to conduct annual field surveys. Instructions for completing the survey and reporting data are on the reverse of the form. Observers can scan/email, scan/upload via link, mail, or fax Form 3-156 to the Division of Migratory Bird Management, or enter the information electronically through the internet at https://migbirdapps.fws.gov/woodcock.

We collect observer information (name, telephone, email address, and mailing address) so that we can contact the observer if questions or concerns arise. Observers provide information on:

• Sky condition, temperature, wind, and precipitation.

• Stop number.

• Odometer reading.

• Time at each stop.

• Number of American Woodcock males heard peenting (calling).

• Disturbance level.

• Comments concerning the survey.

We use the information that we collect to analyze the survey data and prepare reports. Assessment of the population's status serves to guide the Service, the States, and the Canadian Government in the annual promulgation of hunting regulations.

Proposed Revisions

We propose to revise our American Woodcock Singing-ground Survey data collection and data entry process over the 2023-2024 period. We will be eliminating the web browser data entry method and developing a data collection application that can be used on a portable electronic device while conducting field surveys. While we still plan to administer the paper-based survey form to every observer, the observer is not required to submit the paper-based results unless the observer does not utilize the data collection application in the field. Instead, data entry will occur through the application via a computer after the survey is complete. Utilizing this new application, observers will also be able to provide spatial information (e.g., GPS coordinates) for each stop location along the route. This additional piece of information will help maintain a verified spatial reference for the survey.

Initially, we expect the burden time to be higher as respondents adjust to the new method to collect and enter data, and for reviewing the updated instructions and completing the training. However, once observers are trained in using the application, the estimated burden will decrease in subsequent years.

Additionally, since most communication and survey material distribution between observers, state and province coordinators, and the national coordinator is primarily conducted by email, we no longer will be requiring the observer's mailing address and phone number.

The public may request a copy of Form 3-156 contained in this information collection by sending a request to the Service Information Collection Clearance Officer (see ADDRESSES).

Title of Collection: North American Woodcock Singing Ground Survey.

OMB Control Number: 1018-0019.

Form Number: Form 3-156.

Type of Review: Revision of a currently approved collection.

Respondents/Affected Public: State, Provincial, local, and Tribal Governments.

Respondent's Obligation: Voluntary.

Frequency of Collection: Annually.

Total Estimated Annual Nonhour Burden Cost: None.

Table 1—Burden Estimates: First Year
Requirement | Average number of annual respondents | Average number of responses each | Average number of annual responses | Average completion time per response (hours) | Estimated annual burden hours *
Survey—US (In the Field App Collection and Submission)
Government | 291 | 1 | 291 | 3.58 | 1,042
Survey—CAN (In the Field App Collection and Submission)
Foreign Gov | 101 | 1 | 101 | 3.58 | 362
Survey—US (App Submission)
Government | 290 | 1 | 290 | 3.72 | 1,079
Survey—CAN (App Submission)
Foreign Gov | 100 | 1 | 100 | 3.72 | 372
Survey—US
Government | 2 | 1 | 2 | 1.92 | 4
Survey—CAN
Foreign Gov | 36 | 1 | 36 | 1.92 | 69
Totals | 820 |  | 820 |  | 2,928
* Rounded.

Table 2—Burden Estimates: Subsequent Years
Requirement | Average number of annual respondents | Average number of responses each | Average number of annual responses | Average completion time per response (hours) | Estimated annual burden hours *
Survey—US (In the Field App Collection and Submission)
Government | 291 | 1 | 291 | 1.92 | 559
Survey—CAN (In the Field App Collection and Submission)
Foreign Gov | 101 | 1 | 101 | 1.92 | 194
Survey—US (App Submission)
Government | 290 | 1 | 290 | 2.05 | 595
Survey—CAN (App Submission)
Foreign Gov | 100 | 1 | 100 | 2.05 | 205
Survey—US
Government | 2 | 1 | 2 | 1.92 | 4
Survey—CAN
Foreign Gov | 36 | 1 | 36 | 1.92 | 69
Totals | 820 |  | 820 |  | 1,626
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-17077 Filed 8-8-23; 8:45 am]

BILLING CODE 4333-15-P